DEPARTMENT OF COMMERCE

National Oceanic and Atmospheric Administration

[RTID 0648-XD335]

Marine Mammals; File No. 27426

AGENCY: National Marine Fisheries Service (NMFS), National Oceanic and Atmospheric Administration (NOAA), Commerce.

ACTION: Notice; receipt of application.

SUMMARY: Notice is hereby given that Oregon State University, Marine Mammal Institute, 2030 Marine Science Drive, Newport, OR 97365 (Responsible Party: Lisa Ballance, Ph.D.), has applied in due form for a permit to conduct research on marine mammals.

DATES: Written comments must be received on or before October 11, 2023.

ADDRESSES: The application and related documents are available for review by selecting “Records Open for Public Comment” from the “Features” box on the Applications and Permits for Protected Species (APPS) home page, https://apps.nmfs.noaa.gov, and then selecting File No. 27426 from the list of available applications. These documents are also available upon written request via email to NMFS.Pr1Comments@noaa.gov.

Written comments on this application should be submitted via email to NMFS.Pr1Comments@noaa.gov. Please include File No. 27426 in the subject line of the email comment.

Those individuals requesting a public hearing should submit a written request via email to NMFS.Pr1Comments@noaa.gov. The request should set forth the specific reasons why a hearing on this application would be appropriate.

FOR FURTHER INFORMATION CONTACT: Shasta McClenahan, Ph.D., or Amy Hapeman, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The applicant requests a 5-year research permit to study abundance, density, distribution, movements, behavior, ecology, health, and stock structure of marine mammals in the Atlantic, Pacific, and Southern Oceans. Research may occur in U.S. and international waters on 72 species of marine mammals, including the following ESA-listed cetaceans: blue (Balaenoptera musculus), bowhead (Balaena mysticetes), fin (Balaenoptera physalus), gray (Eschrichtius robustus; Western North Pacific distinct population segment [DPS]), humpback (Megaptera novaeangliae; Central America, Mexico, Western North Pacific, and Cape Verde DPSs), killer (Orcinus orca; Southern Resident DPS), North Pacific right (Eubalaena japonica), Rice's (Balaenoptera ricei), sei (Balaenoptera borealis), Southern right (E. australis), and sperm (Physeter macrocephalus) whales. Research for cetaceans would include vessel and aerial surveys (manned and unmanned) for observations, photography, video recordings, thermal imaging, photogrammetry, passive acoustics, echosounders for prey mapping, biological sampling (exhaled air, sloughed skin, feces, and skin and blubber biopsy), and tagging (suction-cup, dart, and deep-implant). Eleven species of pinnipeds may be harassed and opportunistically studied during research including the following ESA-listed species: Steller sea lions (Eumetopias jubatus; Western DPS), and bearded (Erignathus barbatus), Guadalupe fur (Arctocephalus townsendi), Hawaiian monk (Neomonachus schauinslandi), ringed (Phoca hispida), and spotted (P. largha) seals. Parts from all species of cetaceans and pinnipeds (excluding walrus) collected under separate authorizations may be imported, exported, and received annually for scientific research, and secondarily used for curation and education. See the application for complete numbers of animals requested by species and procedure.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: September 5, 2023.
Julia M. Harrison,
Chief, Permits and Conservation Division, Office of Protected Resources, National Marine Fisheries Service.

[FR Doc. 2023-19455 Filed 9-8-23; 8:45 am]

BILLING CODE 3510-22-P